DEPARTMENT OF COMMERCE

International Trade Administration

[A-570-880]

Barium Carbonate From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on barium carbonate from the People's Republic of China (China) would likely lead to a continuation or recurrence of dumping and material injury to an industry in the United States, Commerce is publishing a notice of continuation of the AD order.

APPLICABLE DATE: Applicable August 20, 2020.

FOR FURTHER INFORMATION CONTACT: Eliza Siordia, Office V, AD/CVD Operations, Enforcement and Compliance, International Trade Administration, U.S. Department of Commerce, 1401 Constitution Avenue NW, Washington, DC 20230; telephone: (202) 482-3878.

SUPPLEMENTARY INFORMATION:

Background

On October 1, 2003, Commerce published its AD order on barium carbonate from China.¹ On January 2, 2020, the ITC instituted,² and Commerce initiated,³ the third sunset review of the Order, pursuant to section 751(c) of the Tariff Act of 1930 as amended (the Act). As a result of its review, Commerce determined that a revocation of the Order would likely lead to continuation or recurrence of dumping and, therefore, notified the ITC of the magnitude of the margin rates likely to prevail should the Order be revoked.⁴

¹ See Antidumping Duty Order: Barium Carbonate from the People's Republic of China, 68 FR 56619 (October 1, 2003) (Order).

² See Barium Carbonate from China; Institution of a Five-Year Review, 85 FR 125 (January 2, 2020).

³ See Initiation of Five-Year (Sunset) Reviews, 85 FR 67 (January 2, 2020).

⁴ See Barium Carbonate from the People's Republic of China: Final Results of the Expedited Third Sunset Review of the Antidumping Duty Order, 85 FR 26666 (May 5, 2020).

On August 14, 2020, the ITC published its determination, pursuant to sections 751(c) and 752(a) of the Act, that revocation of the Order would likely lead to continuation or recurrence of material injury to an industry in the United States within a reasonably foreseeable time.⁵

⁵ See Barium Carbonate from China, 85 FR 49681 (August 14, 2020).

Scope of the Order

The product covered by the Order is barium carbonate, regardless of form or grade and currently classifiable under subheading 2836.60.0000 of the Harmonized Tariff Schedule of the United States (HTSUS). Although the HTSUS subheading is provided for convenience and customs purposes, the written description of the scope of this proceeding is dispositive.

Continuation of the Order

As a result of the determinations by Commerce and the ITC that revocation of the Order would likely lead to a continuation or a recurrence of dumping, as well as material injury to an industry in the United States, pursuant to section 751(d)(2) of the Act and 19 CFR 351.218(a), Commerce hereby orders the continuation of the Order on barium carbonate from China.

U.S. Customs and Border Protection will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next five-year review of the Order not later than 30 days prior to the fifth anniversary of the effective date of continuation.

Notification to Interested Parties

This five-year sunset review and this notice are in accordance with sections 751(c) and 751(d)(2) of the Act and published in accordance with section 777(i)(1) of the Act and 19 CFR 351.218(f)(4).

Dated: August 14, 2020.
Jeffrey I. Kessler,
Assistant Secretary for Enforcement and Compliance.

[FR Doc. 2020-18286 Filed 8-19-20; 8:45 am]

BILLING CODE 3510-DS-P